DEPARTMENT OF JUSTICE

Antitrust Division

Notice Pursuant to the National Cooperative Research and Production Act of 1993—1EdTech Consortium, Inc.

Notice is hereby given that, on December 18, 2024, pursuant to section 6(a) of the National Cooperative Research and Production Act of 1993, 15 U.S.C. 4301 et seq. (“the Act”), 1EdTech Consortium, Inc. (“1EdTech Consortium”) has filed written notifications simultaneously with the Attorney General and the Federal Trade Commission disclosing changes in its membership. The notifications were filed for the purpose of extending the Act's provisions limiting the recovery of antitrust plaintiffs to actual damages under specified circumstances. Specifically, Academian, Chandler, AZ; Alabama School of Cyber Technology, Huntsville, AL; Dighton-Rehoboth Regional SD, North Dighton, MA; Digital Respons-Ability, Vineyard, UT; Ditki Medical & Biological Sciences, Carmel, IN; Novis River, Houston, TX; Ron Clark Academy, Atlanta, GA; and Theta Servv Inc., San Diego, CA, have been added as parties to this venture.

Also, New Meridian, Austin, TX; Salesforce, San Francisco, CA; Meazure Learning, Hoover, AL; Excel Public Schools, Mysore, INDIA; Digvial IT Solutions, Dubai, UNITED ARAB EMIRATES; Vivienns, Hamilton Township, NJ; Crosstown High, Memphis, TN; Studynaut, Alicante, SPAIN; Curriki, Chicago, IL; and Alief ISD, Houston, TX, have withdrawn as parties to this venture.

Additionally, RANDA Solutions has changed its name to Level UP, Franklin, TN.

No other changes have been made in either the membership or planned activity of the group research project. Membership in this group research project remains open, and 1EdTech Consortium intends to file additional written notifications disclosing all changes in membership.

On April 7, 2000, 1EdTech Consortium filed its original notification pursuant to section 6(a) of the Act. The Department of Justice published a notice in the Federal Register pursuant to section 6(b) of the Act on September 13, 2000 (65 FR 55283).

The last notification was filed with the Department on October 4, 2024. A notice was published in the Federal Register pursuant to section 6(b) of the Act on December 20, 2024 (89 FR 104208).

Suzanne Morris,
Deputy Director Civil Enforcement Operations, Antitrust Division.

[FR Doc. 2025-02108 Filed 1-31-25; 8:45 am]

BILLING CODE P